DEPARTMENT OF JUSTICE

Antitrust Division

Notice Pursuant to the National Cooperative Research and Production Act of 1993—Compressed Air and Gas Institute

Notice is hereby given that, on September 20, 2004, pursuant to section 6(a) of the National Cooperative Research and Production Act of 1993, 15 U.S.C. 4301 et seq. (“the Act”), Compressed Air and Gas Institute (“CAGI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Compressed Air and Gas Institute, Cleveland, OH. The nature and scope of CAGI's standards development activities are: Multiple standards for compressors, compressor-related testing, air dryers, filters and portable air tools, many prepared and updated in coordination with other standards organizations, including PNEUROP and the American National Standards Institute.

Dorothy B. Fountain,
Deputy Director of Operations, Antitrust Division.

[FR Doc. 04-26211 Filed 11-26-04; 8:45 am]

BILLING CODE 4410-11-M